DEPARTMENT OF STATE

[Public Notice 6286]

Determination Pursuant to Section 686 of the Department of State, Foreign Operations, and Related Programs Appropriations Act, 2008

Pursuant to the authority vested in me by the laws of the United States, including Section 686(b) of the Department of State, Foreign Operations, and Related Programs Appropriations Act, 2008 (Div. J, Pub. L. 110-161) (the “Act”), I hereby determine that waiving the requirements of subsection (a) of Section 686 of the Act is important to the national interests of the United States, and I hereby so waive.

This Determination shall be published in the Federal Register and copies shall be provided to the appropriate committees of the Congress.

Dated: June 25, 2008.
Condoleezza Rice,
Secretary of State, Department of State.

[FR Doc. E8-15862 Filed 7-10-08; 8:45 am]

BILLING CODE 4710-23-P